DEPARTMENT OF HEALTH AND HUMAN SERVICES

Centers for Disease Control and Prevention

[Program Announcement 04147]

First National Congress on Public Health Preparedness; Notice of Intent To Fund Single Eligibility Award

A. Purpose

The Centers for Disease Control and Prevention (CDC) announces the intent to fund fiscal year (FY) 2004 funds for a cooperative agreement program for convening a meeting of leaders in medicine and public health to exchange critical information and discuss successful programs for ensuring public health readiness for terrorism events or other emergencies. The Catalog of Federal Domestic Assistance number for this program is 93.283.

B. Eligible Applicant

Assistance will be provided only to University of Georgia Center for Leadership in Education and Applied Research in Mass Destruction Defense (CLEARMADD). The University of Georgia (UGA) CLEARMADD is currently working with the Centers for Disease Control and Prevention (CDC), the Medical College of Georgia (MCG), the American Medical Association (AMA), and other academic centers who are developing curricula for health professionals regarding weapons of mass destruction (WMD). This multi-organizational collaboration was developed to ensure coordinated training for medical and public health professionals. The original cooperative agreement number with UGA is U90/CCU421862. The cooperative agreement was legislatively earmarked, in FY2002, and the House of Representatives Conference Report accompanying the Department of Labor, Health and Human Services, Education, and related agencies Appropriations Bill ending September 30, 2002 recognized UGA's unique qualifications in conducting the activities associated with this cooperative agreement. Consistent with the activities of the congressionally earmarked cooperative agreement, the UGA, is uniquely qualified for the proposed activity in convening a forum of medical and public health professionals. The UGA has an internationally recognized research program at Chernobyl and more than 50 years of continuous research experience at Georgia's Savannah River site which has established UGA as a national academic leader in environmental radioactivity. The UGA has already collaborated with the AMA through the MCG and with other academic centers for public health preparedness in developing national standards for frontline clinicians through the Basic Disaster Life Support (BDLS) and the Advanced Disaster Life Support (ADLS) training curricula. UGA has become a national leader in coordinating efforts to upgrade medical readiness of medical and public health professionals and is a CDC Specialty Center for Public Health Preparedness. UGA has conducted extensive collaborations with other academic medical centers, including the Medical College of Georgia, the University of Texas Southwestern Medical Center, Dallas and the University of Texas at Houston, as well as the American Medical Association, in their ongoing work to develop programs to bridge public health and clinical medicine. UGA has a recognized track record on teaching and research in toxicology, the environmental effects of radioactivity on human and ecosystem health, public policy regarding terrorism preparedness and response, and related distance learning. The past experience of UGA, ongoing association with AMA, its unique collaborations in the past and for this activity, and the training protocols already in development, make UGA unique in recommending UGA for single eligibility for this award.

C. Funding

Approximately $1,000,000 is available in FY 2004 to fund this award. It is expected that the award will begin on or before March 15, 2004, and will be made for a 12-month budget period within a project period of up to one year. Funding estimates may change.

D. Where To Obtain Additional Information

For general comments or questions about this announcement, contact: Technical Information Management, CDC Procurement and Grants Office, 2920 Brandywine Road, Atlanta, GA 30341-4146, Telephone: 770-488-2700.

For technical questions about this program, contact: Lynn Steele, Senior Advisor, Education and Training, CDC, Office of the Director, Office of Terrorism, Preparedness and Emergency Response, 1600 Clifton Road, Mailstop D-44, Atlanta, GA 30333, Telephone: 404-639-7142.

Dated: May 4, 2004.
William P. Nichols,
Acting Director, Procurement and Grants Office, Centers for Disease Control and Prevention.

[FR Doc. 04-10534 Filed 5-7-04; 8:45 am]

BILLING CODE 4163-18-P